DEPARTMENT OF ENERGY

Federal Energy Regulatory Commission

Combined Notice of Filings

Take notice that the Commission has received the following Natural Gas Pipeline Rate and Refund Report filings:

Docket Numbers: RP10-1410-006.

Applicants: Kern River Gas Transmission Company.

Description: to be effective 12/1/2010.

Filed Date: 2/19/13.

Accession Number: 20130219-5076.

Comments Due: 5 p.m. ET 3/4/13.

Docket Numbers: RP13-573-000.

Applicants: Iroquois Gas Transmission System, L.P.

Description: 02/19/13 Negotiated Rates—Occidental Energy Mrktg—(RTS)—6060-08 & 09 to be effective 3/1/2013.

Filed Date: 2/19/13.

Accession Number: 20130219-5066.

Comments Due: 5 p.m. ET 3/4/13.

Docket Numbers: RP13-574-000.

Applicants: Tennessee Gas Pipeline Company, L.L.C.

Description: to be effective 3/21/2013.

Filed Date: 2/19/13.

Accession Number: 20130219-5179.

Comments Due: 5 p.m. ET 3/4/13.

Docket Numbers: RP13-575-000.

Applicants: Natural Gas Pipeline Company of America.

Description: EOG Resources Negotiated Rate to be effective 4/1/2013.

Filed Date: 2/20/13.

Accession Number: 20130220-5065.

Comments Due: 5 p.m. ET 3/4/13.

Docket Numbers: RP13-576-000.

Applicants: Natural Gas Pipeline Company of America.

Description: Nicor Gas Neg Rate to be effective 4/1/2013.

Filed Date: 2/20/13.

Accession Number: 20130220-5069.

Comments Due: 5 p.m. ET 3/4/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Dated: February 20, 2013.
Nathaniel J. Davis, Sr.,
Deputy Secretary.

[FR Doc. 2013-04322 Filed 2-25-13; 8:45 am]

BILLING CODE 6717-01-P